DEPARTMENT OF THE INTERIOR

Bureau of Land Management

[NV-050-5855-EU; N-61259, N-66238]

Notice of Realty Action: Direct Sale of Public Lands in Clark County, NV

AGENCY: Bureau of Land Management, Interior.

ACTION: Direct sale to the City of Mesquite, Nevada.

SUMMARY: The Mesquite Lands Act of 1988, was amended by Section 121 of Public Law 104-208, dated September 30, 1996, to afford the City of Mesquite, Nevada (City) the exclusive right to purchase certain public lands, at not less than fair market value, for a period of 12 years. On October 24, 1996, these public lands were segregated from all forms of appropriation under the public land laws, including the general mining laws, until September 29, 2008. In accordance with the Act, the City has notified the Bureau of Land Management (BLM) as to which of the described lands the City wishes to purchase. The Mesquite Lands Act was further amended by Public Law 106-113, dated November 29, 1999, which provided that for a period of 12 years after the date of the enactment of this Amendment, the City shall have the exclusive right to purchase certain public lands described in the Amendment. The lands are subject to all existing rights and for 12 years after the date of the enactment are withdrawn from all forms of entry and appropriation under the public land laws, including the mining laws, and from operation of the mineral leasing and geothermal leasing laws. The City has notified the Bureau of Land Management as to which of the described lands the City wishes to purchase at this time. The lands are identified for disposal through sale in the Las Vegas Resource Management Plan, and consist of approximately 2,346.30 acres.

Lands being offered to the City under Serial Number N-61259 are described as follows:

Mount Diablo Meridian, Nevada

T. 13 S., R. 71 E.,

Sec. 4, Lots 6 through 11, inclusive, SW¼NE¼, S½NW¼, SW¼, W½SE¼;

Sec. 5, Lots 5 through 12, inclusive, S½N½, S½;

Sec. 6, Lots 8 through 15, inclusive, S½N½, S½;

Sec. 7, N½.

T. 13 S., R. 70 E.,

Sec. 1, Lots 5 through 12, inclusive, S½N½, S½;

Sec. 11, E½SE¼;

Sec. 12, All;

Sec. 13, W½;

Sec. 14, E½NE¼, S½;

Sec. 23, Lots 5, 7, 8, and 10, N½, W½SW¼, NE¼SW¼;

Sec. 24, Lot 7, NW¼NW¼;

Sec. 26, Lots 9, 11, and 12.

Consisting of approximately 5,345.79 acres.

Lands being offered to the City under Serial Number N-66238 are described as follows:

Mount Diablo Meridian, Nevada

T. 13 S., R. 69 E.,

Sec. 25, Lots 5, 7, 10, and 13;

Sec. 36, All.

T. 13 S., R. 70 E.,

Sec. 27, Lots 4, 6, 12, 14, and 15, N½NE¼, NW¼, NW¼SW¼;

Sec. 28, Lot 1, NE¼, W½SE¼, NE¼SE¼;

Sec. 30, Lot 11;

Sec. 31, Lots 6, 7, 8, 10, 12, 14, and 16, S½NE¼, SE¼NW¼, E½SW¼, SE¼;

Sec. 32, Lots 1, 5, 8, and 11, S½NW¼, SW¼;

Sec. 33, Lots 3, 5, 7, and 9.

Consisting of approximately 2,346.30 acres.

The total acreage of the above-described lands is approximately 7,692.09 acres. The lands will be sold non-competitively to the City in accordance with Section 203 and Section 209 of the Federal Land Policy and Management Act of 1976, the Mesquite Lands Act of 1988, as amended, and the regulations at 43 CFR part 2710, at not less than the appraised fair market value (FMV).

When the lands are sold, conveyance of the locatable mineral interests will occur simultaneously with the sale of the land. The locatable mineral interests being offered have no known mineral value. Acceptance of the sale offer will constitute an application for conveyance of those mineral interests. In conjunction with the final payment, the applicant will be required to pay a $50.00 non-refundable filing fee for processing the conveyance of the locatable mineral interests.

The lands are not required for any federal purpose. The direct sale is consistent with current Bureau planning for this area and would be in the public interest. The patent will be subject to the provisions of the Federal Land Policy and Management Act and applicable regulations of the Secretary of the Interior, and the lands will be subject to the following terms and conditions:

1. A right-of-way is reserved for ditches and canals constructed by the authority of the United States under the Act of August 30, 1890, (43 U.S.C. 945).

2. All leaseable and saleable mineral deposits are reserved on land sold; permittees, licensees, and lessees retain the right to prospect for, mine, and remove the minerals owned by the United States under applicable law and any regulations that the Secretary of the Interior may prescribe, including all necessary access and exit rights.

3. The lands are subject to all valid existing rights. The lands may also be subject to applications received prior to publication of this notice if processing the application would have no adverse affect on the appraised FMV. Encumbrances of record are available for review during business hours, 7:30 a.m. to 4:15 p.m., PDT, Monday through Friday, at the Bureau of Land Management, Las Vegas Field Office, 4701 North Torrey Pines Drive, Las Vegas, NV.

4. The lands are subject to reservations for roads, public utilities and flood control purposes, both existing and proposed, in accordance with the local governing entities' Transportation Plans.

5. The purchaser/patentee, by accepting a patent, agrees to indemnify, defend, and hold the United States harmless from any costs, damages, claims, causes of action, penalties, fines, liabilities, and judgements of any kind or nature arising from the past, present, and future acts or omissions of the patentee or their employees, agents, contractors, or lessees, or any third-party, arising out of, or in connection with, the patentee's use, occupancy, or operations on the patented real property. This indemnification and hold harmless agreement includes, but is not limited to, acts and omissions of the patentee and their employees, agents, contractors, or lessees, or any third party, arising out of or in connection with the use and/or occupancy of the patented real property which has already resulted or does hereafter result in: (1) Violations of federal, state, and local laws and regulations that are now, or may in the future become, applicable to the real property; (2) Judgements, claims or demands of any kind assessed against the United States; (3) Costs, expenses, or damages of any kind incurred by the United States; (4) Other releases or threatened releases of solid or hazardous waste(s) and/or hazardous substances(s), as defined by federal or state environmental laws; off, on, into or under land, property and other interests of the United States; (5) Other activities by which solids or hazardous substances or wastes, as defined by federal and state environmental laws are generated, released, stored, used or otherwise disposed of on the patented real property, and any cleanup response, remedial action, or other actions related in any manner to said solid or hazardous substances or wastes; or (6) Natural resource damages as defined by federal and state law. This covenant shall be construed as running with the patented real property and may be enforced by the United States in a court of competent jurisdiction.

The lands have been withdrawn from all forms of entry and appropriation under the public land laws, including the mining laws, and from operation of the mineral leasing and geothermal leasing laws. Upon publication of this notice and until completion of the sale, the BLM is no longer accepting land use applications affecting any lands being offered for sale. Detailed information concerning this sale, including the maps, reservations, sale procedures and planning and environmental documents, is available for review at the office of the Bureau of Land Management, Las Vegas Field Office, 4701 North Torrey Pines Drive, Las Vegas, NV 89130 or by calling (702) 515-5000.

For a period of 45 days from the date of publication of this notice in the Federal Register, interested parties may submit comments regarding the proposed direct sale to the Las Vegas Field Manager, Las Vegas Field Office, 4701 North Torrey Pines Drive, Las Vegas, NV 89130. Any adverse comments will be reviewed by the State Director, who may sustain, vacate, or modify this realty action in whole or in part. In the absence of any adverse comments, this realty action will become the final determination of the Department of the Interior. Any comments received during this process, as well as the commentor's name and address, will be available to the public in the administrative record and/or pursuant to a Freedom of Information Act request. You may indicate for the record that you do not wish your name and/or address be made available to the public. Any determination by the Bureau of Land Management to release or withhold the names and/or addresses of those who comment will be made on a case-by-case basis. A commentor's request to have their name and/or address withheld from public release will be honored to the extent permissible by law.

Lands will not be offered for sale until at least 60 days after the date of publication of this notice in the Federal Register.

Dated: August 1, 2002.
Mark Chatterton,
Acting Field Manager.

[FR Doc. 02-19781 Filed 8-1-02; 1:38 pm]

BILLING CODE 4310-HC-P